DEPARTMENT OF HEALTH AND HUMAN SERVICES

Food and Drug Administration

[Docket No. FDA-2012-N-0001]

Oncologic Drugs Advisory Committee; Amendment of Notice

AGENCY: Food and Drug Administration, HHS.

ACTION: Notice.

The Food and Drug Administration (FDA) is announcing an amendment to the notice of meeting of the Oncologic Drugs Advisory Committee. This meeting was announced in the Federal Register of May 31, 2012 (77 FR 32125-32126). The amendment is being made to reflect a change in the Date and Time, and Procedure portions of the document. The Date and Time of the meeting will change to July 24, 2012, from 8 a.m. to 6 p.m. The Procedure portion of the document has changed to reflect an updated public participation time of 10:30 a.m. to 11 a.m., and 4:30 p.m. to 5 p.m. There are no other changes.

FOR FURTHER INFORMATION CONTACT: Caleb Briggs, Center for Drug Evaluation and Research, Food and Drug Administration, 10903 New Hampshire Ave., Bldg. 31, Rm. 2417, Silver Spring, MD 20993-0002, 301-796-9001, FAX: 301-847-8533, ODAC@fda.hhs.gov, or FDA Advisory Committee Information Line, 1-800-741-8138 (301-443-0572 in the Washington, DC area), and follow the prompts to the desired center or product area. Please call the Information Line for up-to-date information on this meeting.

SUPPLEMENTARY INFORMATION: In the Federal Register of May 31, 2012, FDA announced that a meeting of the Oncologic Drugs Advisory Committee would be held on July 24, 2012. On page 32125, in the third column, the Date and Time portion of the document is changed to read as follows:

Date and Time: The meeting will be held on July 24, 2012 from 8 a.m. to 6 p.m.

On page 32126, in the first column, the third sentence in the Procedure portion of the document is changed to read as follows:

Procedure: Oral presentations from the public will be scheduled between approximately 10:30 a.m. to 11 a.m., and 4:30 p.m. to 5 p.m.

This notice is issued under the Federal Advisory Committee Act (5 U.S.C. app. 2) and 21 CFR part 14, relating to the advisory committees.

Dated: June 20, 2012.
Jill Hartzler Warner,
Acting Associate Commissioner for Special Medical Programs.

[FR Doc. 2012-15393 Filed 6-22-12; 8:45 am]

BILLING CODE 4160-01-P